DEPARTMENT OF THE INTERIOR

National Park Service

[NPS-WASO-NAGPRA-22336; PPWOCRADN0-PCU00RP14.R50000]

Notice of Intent To Repatriate Cultural Items: Peabody Museum of Natural History, Yale University, New Haven, CT

AGENCY: National Park Service, Interior.

ACTION: Notice.

SUMMARY: The Peabody Museum of Natural History, in consultation with the appropriate Indian tribes or Native Hawaiian organizations, has determined that the cultural items listed in this notice meet the definition of unassociated funerary objects, sacred objects, and/or objects of cultural patrimony. Lineal descendants or representatives of any Indian tribe or Native Hawaiian organization not identified in this notice that wish to claim these cultural items should submit a written request to the Peabody Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Peabody Museum of Natural History at the address in this notice by December 28, 2016.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3005, of the intent to repatriate cultural items under the control of the Peabody Museum of Natural History, Yale University, New Haven, CT that meet the definition of unassociated funerary objects, sacred objects, and/or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Unassociated Funerary Objects

In the late 19th century, six cultural items were collected in southwestern Alaska. Three of the cultural items were collected circa 1896-1899, placed on deposit at the Peabody Museum of Natural History in 1928, and formally donated to the Peabody Museum of Natural History in 1992. The remaining three cultural items were collected prior to 1880 when they were donated to the Peabody Museum of Natural History. The six cultural items are: One headdress, two bone necklaces, one ivory amulet, one bone drinking tube, and one oyster catcher rattle.

In June 2015, representatives from the Central Council of the Tlingit and Haida Indian Tribes of Alaska identified the six cultural items as part of a shaman's outfit/paraphernalia (collectively the “Six Shaman's Objects”) and historic and contemporary scholars support this identification. Historic and contemporary scholars also state that Tlingit shamans were traditionally placed in above-ground grave houses along with their outfit/paraphernalia.

Sacred Objects and Objects of Cultural Patrimony

In the late 19th century, one Chilkat robe and one Chilkat Woodworm pipe were collected from southwestern Alaska and in 1902 they were donated to the Peabody Museum of Natural History. In 1928 or 1929 one Raven rattle was collected from southwestern Alaska and was subsequently donated to the Peabody Museum of Natural History in 1966. In 1931, one Chilkat robe, was purchased in Juneau, Alaska and donated to the Peabody Museum of Natural History. During consultation, representatives from the Central Council of the Tlingit and Haida Indian Tribes of Alaska identified the first Chilkat robe as depicting the Sea Monster crest, which belongs to the Wooshkeetaan Clan; the Chilkat Woodworm pipe as depicting the Woodworm crest, which belongs to the Ghaanaxhteidí Clan; the Raven rattle as being made by Jack Gamble (Dl'eet') of the Wooshkeetaan Clan; and the second Chilkat robe as depicting the Killerwhale crest which belongs to the Dakhl'aweidi Clan (collectively the “Four Clan Objects”).

The representatives stated that, according to tribal custom, no individual could have legally alienated the Four Clan Objects from their respective clans. In addition, the representatives stated that members of the Wooshkeetaan, the Ghaanaxhteidí and the Dakhl'aweidi Clans need the Four Clan Objects to practice traditional ceremonies today. Evidence presented by the Central Council and independent scholars confirm the attribution of the crests to the specific clans, support the representative's description of the legal significance of the crests as recording the clans' collective title to the Four Clan Objects, and corroborate that the Four Clan Objects are especially revered and feature prominently in traditional and present day ceremonial contexts.

Determinations Made by the Peabody Museum of Natural History

Officials of the Peabody Museum of Natural History have determined:

• Unassociated Funerary Objects. Pursuant to 25 U.S.C. 3001(3)(B), the Six Shaman Objects described above are reasonably believed to have been placed with or near individual human remains at the time of death or later as part of the death rite or ceremony and are believed, by a preponderance of the evidence, to have been removed from a specific burial site of a Native American individual.

• Sacred Objects. Pursuant to 25 U.S.C. 3001(3)(C), the Four Clan Objects described above are specific ceremonial objects needed by traditional Native American religious leaders for the practice of traditional Native American religions by their present-day adherents.

• Objects of Cultural Patrimony. Pursuant to 25 U.S.C. 3001(3)(D), the Four Clan Objects described above have ongoing historical, traditional, or cultural importance central to the Native American group or culture itself, rather than property owned by an individual.

• Shared Group Identity. Pursuant to 25 U.S.C. 3001(2), there is a relationship of shared group identity that can be reasonably traced between the unassociated funerary objects, sacred objects, and/or objects of cultural patrimony and the Central Council of the Tlingit and Haida Indian Tribes of Alaska.

Additional Requestors and Disposition

Lineal descendants or representatives of any Indian tribe or Native Hawaiian organization not identified in this notice that wish to claim these cultural items should submit a written request with information in support of the claim to Professor David Skelly, Director, Yale Peabody Museum of Natural History, P.O. Box 208118, New Haven, CT 06520-8118, telephone (203) 432-3752, by December 28, 2016. After that date, if no additional claimants have come forward, transfer of control of the unassociated funerary objects, sacred objects, and/or objects of cultural patrimony to the Central Council of the Tlingit and Haida Indian Tribes of Alaska may proceed.

The Peabody Museum of Natural History is responsible for notifying the Central Council of the Tlingit and Haida Indian Tribes of Alaska that this notice has been published.

Dated: November 2, 2016
Melanie O'Brien,
Manager, National NAGPRA Program.

[FR Doc. 2016-28512 Filed 11-25-16; 8:45 am]

BILLING CODE 4312-52-P